FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 2, 2015.

A. Federal Reserve Bank of Atlanta (Chapelle Davis, Assistant Vice President) 1000 Peachtree Street NE., Atlanta, Georgia 30309:

1. Edgar Ray Smith, III, William Kent Hood, Savannah K. Conti, William K. Conti, Amite Mini Storage, LLC, Hood Investments, LLC, WKH Management, Inc., Smith and Hood Investments, LLC, all of Amite, Louisiana; Sophia M. Pray, Hudson M. Pray, both of Hammond, Louisiana; Big 4 Investments, LLC, Roseland, Louisiana; to retain voting shares of First Guaranty Bancshares, Inc., and thereby indirectly retain voting shares of First Guaranty Bank, both in Hammond, Louisiana.

2. Donald Joseph Leeper, Adairsville, Georgia; to acquire voting shares of NorthSide Bancshares, Inc., and thereby indirectly acquire voting shares of NorthSide Bank, both in Adairsville, Georgia.

B. Federal Reserve Bank of St. Louis (Yvonne Sparks, Community Development Officer) P.O. Box 442, St. Louis, Missouri 63166-2034:

1. John M. Huetsch, individually and as trustee of the John O. Huetsch Trust u/a dated 1/31/2012, both of Waterloo, Illinois; to retain voting shares of SBW Bancshares, Inc., and thereby indirectly retain voting shares of State Bank of Waterloo, both in Waterloo, Illinois.

Board of Governors of the Federal Reserve System, November 12, 2015.
Michael J. Lewandowski,
Associate Secretary of the Board.

[FR Doc. 2015-29298 Filed 11-16-15; 8:45 am]

BILLING CODE 6210-01-P